DEPARTMENT OF LABOR

Office of the Secretary

Submission for OMB Review; Comment Request

The Department of Labor (DOL) hereby announces the submission of the following public information collection request (ICR) to the Office of Management and Budget (OMB) for review and approval in accordance with the Paperwork Reduction Act of 1995 (Pub. L. 104-13, 44 U.S.C. chapter 35). A copy of this ICR, with applicable supporting documentation; including, among other things, a description of the likely respondents, proposed frequency of response, and estimated total burden may be obtained from the RegInfo.gov Web site at http://www.reginfo.gov/public/do/PRAMain or by contacting Linda Watts Thomas on 202-693-4223 (this is not a toll-free number) and e-mail mail to: DOL_PRA_PUBLIC@dol.gov.

Interested parties are encouraged to send comments to the Office of Information and Regulatory Affairs, Attn: OMB Desk Officer for the Department of Labor—Employment and Training Administration, Room 10235, Washington, DC 20503, Telephone: 202-395-7316/Fax 202-395-5806 (these are not toll-free numbers), e-mail: OIRA_submission@omb.eop.gov within 30 days from the date of this publication in the Federal Register. In order to ensure the appropriate consideration, comments should reference the applicable OMB Control Number (see below).

The OMB is particularly interested in comments which:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Agency: Employment and Training Administration.

Type of Review: NEW.

Title of Collection: Evaluation of the Technology-Based Learning Grants.

OMB Control Number: 1205-0NEW.

Frequency: Once.

Form Numbers: None; survey.

Affected Public: Grantees.

Cost to Federal Government: $121,517.

Estimated Number of Respondents: 1050.

Total Number of Responses: 1050.

Total Burden Hours: 350.

Total Hour Burden Cost (Operating/Maintaining): $0.

Description: This information collection request is for a study to evaluate grantees funded under ETA's initiative to implement technology based learning. The initiative increases worker access to training while stimulating the development of innovative models and uses for technology based learning in the public workforce system. For additional information, see related notice published in the Federal Register on March 19, 2010, (Vol. 75 page 13305).

Dated: August 11, 2010.
Linda Watts Thomas,
Acting Departmental Clearance Officer.

[FR Doc. 2010-21079 Filed 8-24-10; 8:45 am]

BILLING CODE 4510-FN-P